DEPARTMENT OF TRANSPORTATION

Federal Highway Administration

Environmental Impact Statement: I-805 Managed Lanes South

AGENCY: Federal Highway Administration (FHWA), DOT.

ACTION: Revised notice of intent.

SUMMARY: This notice is a revision of the July 11, 2007 Notice of Intent (Federal Register Volume 72, Number 132, Page 37814) which advised that an Environmental Impact Statement (EIS) will be prepared for a project in San Diego, California. The purpose of this revised notice is to advise agencies and the public that environmental review, consultation, and any other action required in accordance with applicable Federal laws for this project is being, or has been, carried out by the California Department of Transportation (Caltrans) under its assumption of responsibility, pursuant to 23 U.S.C. 327.

FOR FURTHER INFORMATION CONTACT: David Nagy, Senior Environmental Planner, California Department of Transportation, 4050 Taylor Street, San Diego, CA 92110, Telephone: (619) 688-0224.

SUPPLEMENTARY INFORMATION: The FHWA is issuing this notice to advise the public that an EIS will be prepared for proposed improvements on Interstate 805 (I-805) in San Diego, CA. Proposed improvements include construction of managed lanes, direct access ramps, in-line transit stations, and auxiliary lanes between Palomar Street and University Avenue. These proposed improvements are necessary to convey existing and projected traffic demand. Alternatives under consideration include (1) taking no action; (2) constructing two managed lanes from Palomar Street to State Route 94; and (3) constructing four managed lanes from Palomar Street to State Route 94. Incorporated into and studied with the build alternatives will be design variations for locations of direct access ramps, auxiliary lanes, and in-line transit stations. Letters describing the proposed action and soliciting comments will be sent to appropriate Federal, State, and local agencies, and to private organizations and citizens who have previously expressed or are known to have interest in this proposal. A public scoping meeting will be held for the project, and a separate mailing will be sent out to all interested parties with the specific date, time, and location for the meeting. In addition, a public hearing will be held during draft EIS circulation. Public notice will be given as to the time and place of the hearing. The draft EIS will be available for public and agency review and comment prior to the public hearing.

To ensure that the full range of issues related to this proposed action are addressed and all significant issues identified, comments and suggestions are invited from all interested parties. Comments or questions concerning this proposed action and the EIS should be directed to the contacts provided above.

(Catalog of Federal Domestic Assistance Program Number 20.205, Highway Planning and Construction. The regulations implementing Executive Order 12372 regarding intergovernmental consultation on Federal programs and activities apply to this program.)

Issued on: September 4, 2007.
Maiser Khaled,
Director, Project Development & Environment, Federal Highway Administration, Sacramento, California.

[FR Doc. E7-17912 Filed 9-11-07; 8:45 am]

BILLING CODE 4910-22-P